DEPARTMENT OF TRANSPORTATION

[Docket No. DOT-OST-2023-0166]

Transportation Services for Individuals With Disabilities: ADA Standards for Transportation Facilities

AGENCY: Department of Transportation (DOT).

ACTION: Request for information on accessibility improvements for transportation facilities.

SUMMARY: The U.S. Department of Transportation (DOT, or Department) is considering whether to amend the accessibility requirements for transportation facilities under the Americans with Disabilities Act of 1990 (ADA) currently contained in Appendix A to DOT's regulations governing transportation services for individuals with disabilities. The Department may consider whether to improve access beyond the minimum standards established by the U.S. Access Board and Appendix A. The Department seeks suggestions from all transportation stakeholders—including transportation agencies, transportation riders (particularly those with disabilities), community members, advocacy groups, planning officials, States, cities, researchers and technology companies, and the private sector—on enhancements that the Department could consider with regard to the ADA standards for transportation buildings and facilities. The Department specifically seeks feedback on areas including, but not limited to vertical access, communications, and wayfinding. The Department also invites comment on any other aspects of the current accessibility requirements for transportation facilities under the ADA contained in DOT's regulations governing transportation services for individuals with disabilities.

DATES: Comments should be submitted on or before January 5, 2024. DOT will consider comments filed after this date to the extent practicable.

ADDRESSES: You may file comments identified by docket number DOT-OST-2023-0166 by any of the following methods:

• Federal eRulemaking Portal: Go to https://www.regulations.gov and follow the online instructions for submitting comments.

• Mail: Docket Operations, U.S. Department of Transportation, 1200 New Jersey Ave. SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: (202) 493-2251.

All submissions received must include the agency name and docket number DOT-OST-2023-0166. All comments received will be posted without change to www.regulations.gov, including any personal information provided. For information on DOT's compliance with the Privacy Act, please visit https://www.transportation.gov/privacy.

For access to the docket to read background documents or comments received, go to www.regulations.gov at any time and search for docket number DOT-OST-2023-0166.

FOR FURTHER INFORMATION CONTACT: For general questions, Holly Ceasar-Fox, DOT Office of General Counsel, (202) 366-7420 or holly.ceasarfox@dot.gov. For program questions related to transit, John Day, FTA Office of Civil Rights, (202) 366-1671 or john.day@dot.gov. For legal questions related to transit, Bonnie Graves, FTA Office of Chief Counsel, (202) 366-0944 or bonnie.graves@dot.gov. For questions related to intercity or high-speed rail, Alana Kuhn, FRA Office of Chief Counsel, (202) 493-0842 or alana.kuhn@dot.gov.

SUPPLEMENTARY INFORMATION:

Background

42 U.S.C. 12204 requires the Architectural and Transportation Barriers Compliance Board (Access Board) to issue minimum guidelines for accessibility under Titles II & III of the ADA. The ADA statute at 42 U.S.C. 12149 requires the Secretary of Transportation to develop and implement regulations for certain public transportation facilities, vehicles, and services consistent with the Access Board's guidelines. The Secretary may issue regulations that result in greater accessibility than the minimum guidelines established by the Access Board.

The current guidelines were developed nearly a quarter century ago and adopted as regulatory standards by the Department in 2006.¹ The Department's experience administering these minimum standards for the past two decades suggests that they have resulted in greater accessibility than the standards ² that preceded them, but in many cases extra efforts may still be required on the part of people with disabilities to enter and use a facility. For example, accessible entrances may be located in isolated locations away from entrances used by members of the general public who do not require an accessible entrance, and persons with sensory disabilities may need to rely on information on a message board at station entrances while other members of the general public are informed via public address systems. In other cases, persons unable to navigate staircases may be faced with lengthy ramps to cross from one rail platform to another. Such continuing barriers may mean that many wheelchair users and persons with sensory, cognitive, or processing disabilities remain dependent on paratransit or private transportation rather than being able to use integrated fixed route service.

¹ The Access Board published a Notice of Proposed Rulemaking in the Federal Register on November 16, 1999, and issued the Final Rule on July 23, 2004. The Department of Justice adopted the standards on September 15, 2010.

² The standards adopted by the Department on September 6, 1991, were in effect until 2006.

There have also been many developments such as advances in technology since the standards were last updated, and the Department is considering both physical access to and usability of facilities by persons with sensory, cognitive, and other disabilities. The Department strives to provide for equitable access to persons with disabilities similar to that available to people without disabilities, including the usability of the facility, so that persons with disabilities are able to access and navigate public transit with the same ease, reliability, and independence as any other user.

Complaints filed by the public, feedback from the disability community, observations of and information gathered by Departmental employees (with and without disabilities), media articles, and the results of the Department's oversight activities have led the Department to solicit feedback on the current standards. For some disabilities, such as those affecting hearing, vision, or cognitive function, the Department is aware of technological advancements (for example, induction loops and mobile device applications), that would help persons with those disabilities navigate the transportation system with ease and independence. The Department is interested in learning more about these technologies. For other disabilities, such as those affecting mobility, the Department seeks feedback regarding, for example, minimum standards that rely on a single point of access that creates a situation where a single point of failure renders an entire facility inaccessible and unusable by persons with disabilities, while access to nondisabled persons is unaffected. The Department is interested in learning how transportation facilities can be designed and constructed such that accessibility features are resilient and always available. The Department also seeks input to assist it in understanding the magnitude of potential access issues that may exist in transportation facilities and therefore requests any available information and comments stakeholders may have on the number of all end-users, not limited to users with disabilities, who would benefit from specific standards in 49 CFR part 37 that may be improved or implemented.

In addition to learning about specific standards in 49 CFR part 37 that may be improved or implemented, the Department is interested in the end-user experience generally. These include experiences in transportation facilities related to vertical access, communication, wayfinding, or any other aspects of transportation facilities that represent barriers for people with disabilities. The Department will consider the extent to which the Department has authority under the ADA to remove such barriers.

Through this request for information (RFI), the Department seeks input as it considers whether to revise the existing DOT ADA requirements for transportation buildings and facilities including public transportation and intercity rail transportation (including Amtrak). The Department poses seven questions below and looks forward to feedback from all interested parties.

Vertical Access

1. It has become increasingly apparent that elevator maintenance and reliability are a critical component of ensuring the accessibility of a multi-level transportation facility such as subway and rail stations. While the existing DOT ADA regulations require accessibility features to be maintained in working order, repairs can be complex and many entities do not have employees with the skillset necessary to repair an elevator or the necessary components readily available, which can add a level of difficulty to the repair process.³ Thus, unreliable elevators create operational and administrative burdens for entities covered by DOT's ADA regulations and can render transportation facilities inaccessible for users for extended durations. The Department is interested in learning about standards that would ensure elevator reliability in transportation facilities.

³ The Department recognizes that many elevator manufacturers require that only their employees work on the elevator, and that there are examples of arrangements where the third-party repair person is available 7 days a week, 24 hours per day, but the Department is also aware of arrangements where same-day, after hours, weekend, or holiday service is not guaranteed (or is charged at a premium).

2. Elevators that are frequently out of service significantly impact the ability of persons who cannot negotiate stairs to use such transportation services. As a result, the Department understands that many agencies involved in the construction or alteration of stations initially plan for two or more elevators per bank instead of just one, so that the station is not rendered inaccessible when one elevator requires maintenance or repair. Despite planners' intentions, budgetary considerations often result in the minimum legally required (not just for accessibility), which means only a single elevator is provided. The Department seeks public input on the impacts of the installation, for future construction and alterations, of at least two elevators in transportation facilities, or a combination of ramps and elevators, where currently one elevator is required.

3. Many commuter and intercity rail stations rely on long switch-back ramps to provide an accessible route between platforms on either side of the tracks, or to multiple platforms within a station. These ramps, which can be hundreds of feet long, often present a barrier to persons who cannot negotiate steps, but also cannot travel the distances required to traverse the ramp. However, the simplicity of a non-mechanical ramp means that maintenance costs are relatively low and repairs are few and far between, unlike more complex elevators. The Department is seeking comment on the use of elevators in lieu of ramps in transportation facilities, or a single elevator in addition to the ramp, if the vertical distance or ramp length exceeds a certain threshold, including information on an appropriate threshold.

Communications

4. The Department of Justice's current ADA standards for buildings and facilities contain provisions requiring assistive listening systems in assembly areas. See 28 CFR 35.151(c)(3); 36 CFR pt. 1191, app. B at 344. The Department seeks comment on the feasibility of extending such requirements to transportation facilities such as rail stations to enable real-time announcements for persons who are deaf or hard of hearing or because of their disability rely on text-based communications to access information. Current requirements for transportation facilities stipulate only that the same information provided audibly must be provided visually. This often takes the form of messages written on a dry-erase board in the station entrance by personnel or information relayed directly to the passenger by personnel, which prevents the transmission of real-time announcements that often relate to service changes or safety/security matters, forces passengers who are deaf or hard of hearing to identify themselves, is not reliable at larger stations with multiple entrances, and is not possible at unstaffed stations. The Department is aware that induction loop technology is in use in some stations, enabling those with a T-coil in their hearing aids to receive messages directly, but seeks comment on how widespread this technology is used among deaf and hard of hearing persons. The Department also seeks comment on other technologies that may provide the same benefit to the same or a larger audience at transportation facilities, such as real-time text-messaging.

5. The Department also seeks comment on other means by which the content of audible announcements of the type typically relayed by public address systems at transportation facilities can be provided in real-time in a visual format, such as changeable electronic message boards, as well as information pertaining to the number and placement of necessary displays throughout a station environment, including spacing, scale, and frequency.

6. In addition, the Department seeks comment on technologies that can provide an audible component to information currently displayed in visual format at transportation facilities. For example, many transit systems and intercity stations use changeable electronic message displays to communicate information about the next train scheduled to arrive at a station, such as the line, number of cars, and estimated time of arrival. Most such systems lack an audible component to make this information accessible to individuals who are blind or have low vision. What commercially available technologies might be appropriate for deployment in a transit, Amtrak, or commuter rail station environment to convey information provided visually in an audible format? How should such information be broadcast? Would an interface with a smart device be appropriate or sufficient, or should an audible component be provided directly on the station's display device?

Wayfinding

7. The Department seeks comment on technologies to enable effective wayfinding within the transit station, intercity and commuter rail station environments for persons who are blind or have low vision, and to accommodate neurodiversity (e.g., autism, intellectual disability, etc.). The Department is aware of technologies capable of real-time transcription of speech and those involving the use of Bluetooth beacons that interface with smart devices and seeks comment on the usability of such systems from the end-user perspective. The Department is also interested in alternative technologies that may be available, potentially without the use of handheld devices, and the acceptance of technologies that do rely on such devices within the general community of persons who are blind, have low-vision, and/or are neurodiverse.

General

In addition, the Department invites comment on all other areas of the current DOT ADA standards, found in Appendix A to 49 CFR part 37, which govern rail stations and stops of all types, bus stops and transfer stations, landside facilities, office buildings housing transit agency personnel, conference facilities of the type often employed for board meetings and public hearings, businesses housed in transit facilities, and individual elements such as track crossings, ramps, parking lots and structures, fare vending machines and collection equipment, and accessible paths of travel. If the public has information on how these standards do or do not currently support equitable access, please submit comments to the docket for this rulemaking activity.

All interested parties are encouraged to respond to this RFI. Submissions are strictly voluntary. Individuals or entities responding to this RFI should state their role as well as knowledge of and experience with the ADA in a transportation environment. DOT may request additional clarifying information from any or all respondents. If a respondent does not wish to be contacted by DOT for additional information, a statement to that effect should be included in the response. All information submitted should be unclassified and should not contain proprietary information, as it will be posted to www.regulations.gov without changes.

DOT is not obligated to officially respond to the information received, but the responses will assist DOT in its consideration of whether to revise the ADA standards for transportation buildings and facilities.

Comments may be submitted and viewed at Docket No. DOT-OST-2023-0166 at https://www.regulations.gov.

Signed pursuant to authority delegated at 49 CFR 1.27(a) on October 31, 2023.
Subash S. Iyer,
Acting General Counsel, Department of Transportation.

[FR Doc. 2023-24422 Filed 11-3-23; 8:45 am]

BILLING CODE 4910-57-P